DEPARTMENT OF COMMERCE

National Oceanic and Atmospheric Administration

[RTID 0648-XE637]

South Atlantic Fishery Management Council; Public Meetings

AGENCY: National Marine Fisheries Service (NMFS), National Oceanic and Atmospheric Administration (NOAA), Commerce.

ACTION: Notice of a public meeting.

SUMMARY: The South Atlantic Fishery Management Council (Council) will host a Best Fishing Practices Outreach Evaluation Workshop (Workshop) on February 20 and 21, 2025.

DATES: The Workshop will be held from 9 a.m. until 5 p.m., EDT on February 20, 2025 and from 9 a.m. until 12:30 p.m. on February 21, 2025.

ADDRESSES:

Meeting address: The Workshop will be held at the Hampton Inn & Suites Charleston, Airport, 3020 W Montague Avenue, North Charleston, SC 29418; phone: (843) 990-5100.

The presentation and breakout group report-out sessions will also be available via webinar. Registration is required. Webinar registration, an online public comment form, and briefing book materials will be available two weeks prior to the meetings at https://safmc.net/workgroups/.

Council address: South Atlantic Fishery Management Council, 4055 Faber Place Drive, Suite 201, N Charleston, SC 29405.

FOR FURTHER INFORMATION CONTACT: Christina Wiegand, Fishery Social Scientist, SAFMC; phone: (843) 302-8437 or toll free: (866) SAFMC-10; fax: (843) 769-4520; email: christina.wiegand@safmc.net.

SUPPLEMENTARY INFORMATION: The South Atlantic Council's Best Fishing Practices (BFP) Outreach Initiative was expanded in December 2022. Evaluation of the outreach efforts conducted is key in ensuring that the goal of increasing the use of BFP in the South Atlantic snapper grouper fishery is achieved. Fortunately, in recent years, there has become increased interest in exploring stakeholder perception and usage of BFP, namely barotrauma mitigation tools like descending devices. This workshop will explore the relationship between perceptions, norms, and the use of best practices, the effectiveness of best fishing practices outreach and education efforts, and how evaluation efforts can be used to support science and management processes.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: January 29, 2025.
Rey Israel Marquez,
Acting Deputy Director, Office of Sustainable Fisheries, National Marine Fisheries Service.

[FR Doc. 2025-02112 Filed 1-31-25; 8:45 am]

BILLING CODE 3510-22-P